DEPARTMENT OF COMMERCE

National Oceanic and Atmospheric Administration

[RTID 0648-XV120]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Bluefish Advisory Panel will hold a public meeting, jointly with the Atlantic States Marine Fisheries Commission's Bluefish Advisory Panel.

DATES: The meeting will be held on Tuesday, November 19, 2019, from 10 a.m. until 12 p.m.

ADDRESSES: The meeting will be held via webinar, which can be accessed at: http://mafmc.adobeconnect.com/bfapnov19/. Meeting audio can also be accessed via telephone by dialing 1-800-832-0736 and entering room number 5068609.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Bluefish Advisory Panel, together with the Atlantic States Marine Fisheries Commission's Bluefish Advisory Panel, will meet on Tuesday, November 19, 2019. The purpose of this meeting is to provide comments and recommendations on recreational management measures for bluefish for the 2020 fishing year. A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Authority: 16 U.S.C. 1801 et seq.

Dated: October 29, 2019.
Tracey L. Thompson,
Acting Deputy Director, Office of Sustainable Fisheries, National Marine Fisheries Service.

[FR Doc. 2019-23910 Filed 10-31-19; 8:45 am]

BILLING CODE 3510-22-P